DEPARTMENT OF THE INTERIOR

Bureau of Reclamation

Los Vaqueros Reservoir Expansion, Contra Costa County, CA

AGENCY: Bureau of Reclamation, Interior.

ACTION: Notice of availability of the Draft Environmental Impact Statement/Environmental Impact Report (EIS/EIR) and notice of public hearings.

SUMMARY: The Bureau of Reclamation (Reclamation), as the National Environmental Policy Act Federal lead agency, and the Contra Costa Water District (CCWD), as the California Environmental Quality Act State lead agency, have made available for public review and comment the Los Vaqueros Reservoir Expansion Project Draft EIS/EIR. The Draft EIS/EIR describes and presents the environmental effects of the No-Action Alternative and four action alternatives. Five public hearings will be held to receive comments from individuals and organizations on the Draft EIS/EIR.

DATES: Five public hearings have been scheduled to receive oral or written comments regarding environmental effects:

• Monday, March 23, 2009, 1:30 p.m.-3:30 p.m., Sacramento, CA.

• Tuesday, March 24, 2009, 6:30 p.m.-8:30 p.m., Livermore, CA.

• Thursday, March 26, 2009, 6:30 p.m.-8:30 p.m., Dublin, CA.

• Tuesday, March 31, 2009, 6:30 p.m.-8:30 p.m., Concord, CA.

• Thursday, April 2, 2009, 6:30 p.m.-8:30 p.m., Oakley, CA.

A 1-hour open house to view project information and interact with the project team will precede the public hearings.

The Draft EIS/EIR will be available for a 60-day public review period. Comments are due by April 21, 2009.

ADDRESSES: The public hearings will be held at the following locations:

• Sacramento at the Bonderson Building Hearing Room 102A/B, 901 P St.

• Livermore at Zone 7 Water Agency Board Room, 100 North Canyons Parkway.

• Dublin at the San Ramon Services District Board Room, 7051 Dublin Blvd.

• Concord at the Heald College and Conference Center, 5130 Commercial Circle.

• Oakley at the Ironhouse Elementary Multi-purpose Room, 4801 Frank Hengel Way.

Send written comments on the Draft EIS/EIR to Mr. Louis Moore, Bureau of Reclamation, 2800 Cottage Way, Sacramento, CA 95825.

Copies of the Draft EIS/EIR may be requested from Ms. Marguerite Naillon, Project Manager, CCWD, at 925-688-8018 or lvstudies@hotmail.com. The Draft EIS/EIR is also accessible from the following Web site: http://www.usbr.gov/mp/nepa/nepa_projdetails.cfm?Project_ID=903 . See SUPPLEMENTARY INFORMATION Section for locations where copies of the Draft EIS/EIR are available for public review.

FOR FURTHER INFORMATION CONTACT: Mr. Louis Moore, Bureau of Reclamation, at 916-978-5189 (TDD 916-978-5608), or wmoore@mp.usbr.gov.

SUPPLEMENTARY INFORMATION: The Draft EIS/EIR documents the direct, indirect, and cumulative effects to the physical, biological, and socioeconomic environment that may result from the expansion of Los Vaqueros Reservoir.

The Los Vaqueros Reservoir Expansion Project Draft EIS/EIR evaluates expanding the existing Los Vaqueros Reservoir and conveyance facilities. The project objectives consist of: (1) Developing water supplies for environmental water management that supports fish protection, habitat management, and other environmental water needs; (2) increasing water supply reliability for water providers within the San Francisco Bay Area, to help meet municipal and industrial water demands during drought periods and emergencies or to address shortages due to regulatory and environmental restrictions; and (3) improving the quality of water deliveries to municipal and industrial customers in the San Francisco Bay Area, without impairing the project's ability to meet the environmental and water supply reliability objectives stated above.

One of the five potential surface storage projects described in the CALFED Bay-Delta Program's long-term plan is the expansion of the existing Los Vaqueros Reservoir, an existing 100,000 acre-foot off-stream surface storage facility, located in Contra Costa County, California. The existing facility is owned and operated by the CCWD.

The primary study area includes the Los Vaqueros Reservoir watershed and associated dam and reservoir facilities, which are situated in the coastal foothills west of the Delta and east of the Bay Area, the central and south Delta, and service areas of Bay Area water agencies. The Bay Area water agencies affected include CCWD, Alameda County Water District, Santa Clara Valley Water District, and Alameda County Flood Control and Water Conservation District—Zone 7. Due to the project influence on other programs and projects, an extended study area is defined to include the service areas of the San Francisco Public Utility Commission and the Central Valley of California.

Reclamation was authorized in Public Law 108-7 (Omnibus Appropriations Act of 2003) to conduct a feasibility-level investigation of the potential expansion of Los Vaqueros Reservoir. Planning studies have focused on identifying water resources problems, needs, and opportunities in the primary study area; developing a set of planning objectives; and formulating alternatives.

Copies of the Draft EIS/EIR are available for public review at the following locations:

• Bureau of Reclamation, Mid-Pacific Region, Regional Library, 2800 Cottage Way, Sacramento, CA 95825.

• Contra Costa Water District 1331 Concord Avenue, Concord, CA 94520.

• California Bay-Delta Authority, 650 Capitol Mall, 5th Floor, Sacramento, CA 95814.

• Bureau of Reclamation, Denver Office Library, Building 67, Room 167, Denver Federal Center, 6th and Kipling, Denver, CO 80225.

• Natural Resources Library, U.S. Department of the Interior, 1849 C Street, NW., Main Interior Building, Washington, DC 20240-0001.

If special assistance is required at the public hearings, please contact Mr. Louis Moore at 916-978-5189, or via e-mail at wmoore@mp.usbr.gov. Please notify Mr. Moore as far in advance as possible to enable Reclamation to secure the needed services. If a request cannot be honored, the requestor will be notified. A telephone device for the hearing impaired (TDD) is available at 916-978-5608.

Before including your name, address, phone number, e-mail address, or other personal identifying information in your comment, you should be aware that your entire comment—including your personal identifying information—may be made publicly available at any time. While you can ask us in your comment to withhold your personal identifying information from public review, we cannot guarantee that we will be able to do so.

Dated: February 11, 2009.
Richard M. Johnson,
Acting Regional Director, Mid-Pacific Region.

[FR Doc. E9-3653 Filed 2-19-09; 8:45 am]

BILLING CODE 4310-MN-P